FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011502-005.

Title: NYK/HUAL Space Charter and Cooperative Working Agreement.

Parties: Hoegh Autoliners AS and Nippon Yusen Kaisha (“NYK”).

Filing Party: Wayne R. Rohde, Esq.; Cozen O'Connor; 1627 I Street NW.; Suite 1100; Washington, DC 20006.

Synopsis: The amendment clarifies that the agreement covers U.S. export trades only, adds Libya and Lebanon to the geographic scope of the agreement, and corrects the U.S. address of Hoegh Autoliners.

Agreement No.: 011741-018.

Title: U.S. Pacific Coast-Oceania Agreement.

Parties: A.P. Moller-Maersk A/S; ANL Singapore PTE Ltd./CMA CGM S.A.; Hamburg-Sud; and Hapag-Lloyd AG.

Filing Party: Wayne R. Rohde, Esq.; Cozen O'Connor; 1627 I Street NW., Suite 1100; Washington, DC 20006.

Synopsis: The amendment would adjust the minimum and maximum size of vessels which can be deployed by the parties.

By Order of the Federal Maritime Commission.
Dated: October 12, 2012.
Rachel E. Dickon,
Assistant Secretary.

[FR Doc. 2012-25568 Filed 10-16-12; 8:45 am]

BILLING CODE 6730-01-P